DEPARTMENT OF LABOR

Office of the Assistant Secretary for Veterans' Employment and Training

The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The ACVETEO is responsible for assessing employment and training needs of veterans; determining the extent to which the programs and activities of the U.S. Department of Labor meet these needs; and assisting to conduct outreach to employers seeking to hire veterans. The authority of the ACVETEO is codified in Title 38 U.S. Code, Section 4110.

The ACVETEO will conduct a business meeting on Tuesday, December 2, 2009 from 8:30 a.m. to 4 p.m., at the Madison Hotel, Montpelier room, 1177 Fifteenth Street, NW., Washington, DC 20005. The ACVETEO will discuss programs to assist veterans seeking employment and to raise employer awareness as to the advantages of hiring veterans, with special emphasis on employer outreach and wounded and injured veterans. There will be an opportunity for persons or organizations to address the committee. Any individual or organization that wishes to do so should contact Margaret Hill Watts at (202) 693-4744. Individuals needing special accommodations should notify Margaret Hill Watts at (202) 693-4744 by November 20, 2009.

Signed in Washington, DC, this 6th day of November 2009.
John M. McWilliam,
Deputy Assistant Secretary for Operations and Management, Veterans' Employment and Training Service.

[FR Doc. E9-27171 Filed 11-10-09; 8:45 am]

BILLING CODE 4510-79-P